NATIONAL FOUNDATION ON THE ARTS AND THE HUMANITIES

Institute of Museum and Library Services

Submission for OMB Review, Comment Request, Proposed Collection: IMLS “2019-2022 National Leadership Grants for Museums and Museums for America Grants”

AGENCY: Institute of Museum and Library Services, National Foundation on the Arts and the Humanities.

ACTION: Submission for OMB review, comment request.

SUMMARY: The Institute of Museum and Library Services announces the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. This notice proposes the clearance of the instructions for the “IMLS National Leadership Grants for Museums and Museums for America Grants.”

A copy of the proposed information collection request can be obtained by contacting the individual listed below in the ADDRESSES section of this notice.

DATES: Comments must be submitted to the office listed in the FOR FURTHER INFORMATION CONTACT section below on or before July 11, 2018.

OMB is particularly interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

ADDRESSES: Comments should be sent to Office of Information and Regulatory Affairs, Attn.: OMB Desk Officer for Education, Office of Management and Budget, Room 10235, Washington, DC 20503, (202) 395-7316.

FOR FURTHER INFORMATION CONTACT: Dr. Sandra Webb, Director of Grant Policy and Management, Institute of Museum and Library Services, 955 L'Enfant Plaza North SW, Suite 4000, Washington, DC 20024-2135. Dr. Webb can be reached by Telephone: 202-653-4718 Fax: 202-653-4608, or by email at swebb@imls.gov, or by teletype (TTY/TDD) for persons with hearing difficulty at 202-653-4614.

SUPPLEMENTARY INFORMATION: The Institute of Museum and Library Services is the primary source of federal support for the nation's libraries and museums. We advance, support, and empower America's museums, libraries, and related organizations through grant making, research, and policy development. Our vision is a nation where museums and libraries work together to transform the lives of individuals and communities. To learn more, visit www.imls.gov.

Current Actions: The goals of National Leadership Grants (NLG) for Museums are to support projects that address critical needs of the museum field and that have the potential to advance practice in the profession so that museums can improve services for the American public. Museums, institutions of higher education, and certain nonprofits who support museum operations or well-being are eligible to apply under this grant program. The goal of Museums for America (MFA) grants is to support projects that strengthen the ability of an individual museum to serve its public. The program supports museums by investing in high-priority activities that are clearly linked to an institution's strategic plan and enhance its value to its community. This action is to renew the forms and instructions for the Notice of Funding Opportunities for the next three years.

Agency: Institute of Museum and Library Services.

Title: 2019-2021 IMLS National Leadership Grants for Museums/Museums for America Notice of Funding Opportunity.

OMB Number: 3137-0094.

Frequency: Once per year.

Affected Public: Museum organization applicants.

Number of Respondents: 630.

Estimated Average Burden per Response: 45 hours.

Estimated Total Annual Burden: 28,350 hours.

Total Annualized Capital/Startup Costs: n/a.

Total Annual Costs: $643,828.50.

Dated: June 6, 2018.
Kim Miller,
Grants Management Specialist, Office of Grants Policy and Management.

[FR Doc. 2018-12525 Filed 6-11-18; 8:45 am]

BILLING CODE 7036-01-P